DEPARTMENT OF COMMERCE

Census Bureau

Agency Information Collection Activities; Submission to the Office of Management and Budget (OMB) for Review and Approval; Comment Request; National Sample Survey of Registered Nurses

AGENCY: Census Bureau, Department of Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed reinstatement, with change, of National Sample Survey of Registered Nurses (NSSRN), prior to the submission of the information collection request (ICR) to OMB for approval.

DATES: To ensure consideration, comments regarding this proposed information collection must be received on or before May 13, 2022.

ADDRESSES: Interested persons are invited to submit written comments by email to addp.nssrn@census.gov. Please reference National Sample Survey of Registered Nurses (NSSRN) in the subject line of your comments. You may also submit comments, identified by Docket Number USBC-2022-0006, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Daniel Doyle, Assistant Survey Director, (301) 763-5304, and daniel.p.doyle@census.gov.

SUPPLEMENTARY INFORMATION:

I. Abstract

Sponsored by the U.S. Department of Health and Human Services' (HHS') Health Resources Services Administration's (HRSA) National Center for Health Workforce Analysis (NCHWA), the National Sample Survey of Registered Nurses (NSSRN) is conducted to assist in fulfilling the Congressional mandates of the Public Health Service Act. Under 42 U.S.C. Section 294n(b)(2)(A), the Secretary of Health and Human Services (the Secretary) must establish a National Center for Health Workforce Analysis responsible for the development of information describing and analyzing the health care workforce and workforce related issues as well as to provide necessary information for decision-making regarding future directions in health professions and nursing programs in response to societal and professional needs. In addition, under another provision of the Public Health Service Act, 42 U.S.C. Section 295k(a)-(b), the Secretary is required to establish “a program, including a uniform health professions data reporting system, to collect, compile, and analyze data on health professions personnel.” Under this same provision, the Secretary may expand the program to include, whenever determined necessary, “the collection, compilation, and analysis of data . . . health care administration personnel, nurses, allied health personnel . . . in States designated by the Secretary to be included in the program.” The NSSRN is designed to obtain the necessary data to determine the characteristics and distribution of Registered Nurses (RNs) throughout the United States, as well as emerging patterns in their employment characteristics. These data will provide the means for the evaluation and assessment of the evolving demographics, educational qualifications, and career employment patterns of RNs, consistent with the goals of congressional mandates of the Public Health Service Act found in 42 U.S.C. Section 294n(b)(2)(A) and Section 295k(a)-(b). Such data have become particularly important for the need to better understand workforce issues given the recent dynamic change in the RN population and, the transformation of the healthcare system.

NSSRN is seeking clearance to make the following changes:

• Increased sample size—The 2022 NSSRN plans to sample 125,000 RNs compared with 100,000 RNs in the 2018 NSSRN. The increased sample will allow for the potential to have more nursing estimates released. The 125,000 RNs will be selected from a sampling frame compiled from files provided by the State Boards of Nursing and the National Council of the State Boards of Nursing (NCSBN). These files constitute a sampling frame of all RNs licensed in the 50 States and the District of Columbia. Sampling rates are set for each state based on considerations of statistical precision of the estimates and the costs involved in obtaining reliable national and state-level estimates.

• Unconditional incentive—The NSSRN will experiment with unconditional monetary incentives for the 2022 cycle, with 90% of the sample receiving $5 with an initial web invitation letter. The intention of the monetary incentive is to test the efficacy of reducing nonresponse bias by encouraging response, that is, whether offering $5 increases response, thus reducing non-response bias and reducing costs associated with follow-up mailings. The unconditional monetary incentive will be randomly assigned to 90% of the sample prior to data collection.

• Revised questionnaire content—There are modifications to the questionnaire which include removing items, modifying existing items and adding new content for the 2022 NSSRN. There is a new set of questions that will evaluate nursing during the coronavirus pandemic. The new content has been cognitively tested and final content decisions are still being discussed. The final set of proposed new and modified content will be included in the full OMB ICR for the 2022 NSSRN.

Besides the proposed changes listed above, the 2022 NSSRN will make modifications to data collection strategies. Results from the prior survey cycle will be used to inform the decisions.

From the prior cycle of the NSSRN, using American Association for Public Opinion Research definitions of response, we can expect for the 2022 NSSRN a response rate of 50%.

II. Method of Collection

Web push is the data collection design for the 2022 NSSRN. All 125,000 RNs will receive an initial invitation letter with instructions on how to complete the questionnaire via the web. Ninety percent (112,500) of the sampled RNs will receive a $5 unconditional monetary incentive with the initial invitation, ten percent (12,500) of sampled RNs will not receive a monetary incentive. The experimental design will test the efficacy of monetary incentives on this population. No additional incentives are planned for subsequent follow-up mailings.

Following the initial invitation letter, two additional web invitations, two reminder pressure sealed postcards and one paper questionnaire mailing will be mailed. Similar to the 2018 NSSRN, the 2022 NSSRN will have a Telephone Questionnaire Assistance (TQA) line available. TQA staff will not only be able to answer respondent questions and concerns, but also will be able to collect survey responses over the phone, using an administrative access to the web instrument, if the respondent calls in and would like to have interviewer assistance in completing the interview.

III. Data

OMB Control Number: 0607-1002.

Form Number(s): NSSRN.

Type of Review: Regular submission, Request for a Reinstatement, with Change, of a Previously Approved Collection.

Affected Public: Nursing populations, researchers, policy makers.

Estimated Number of Respondents: 62,500.

Estimated Time per Response: 30 minutes.

Estimated Total Annual Burden Hours: 31,250.

Estimated Total Annual Cost to Public: $0.

Respondent's Obligation: Voluntary.

Legal Authority: Census Authority: 13 U.S.C. Section 8(b).

HRSA Authority: Public Health Service Act, 42 U.S.C. Section 294n(b)(2)(A) and 42 U.S.C. Section 295k(a)-(b).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2022-05347 Filed 3-11-22; 8:45 am]

BILLING CODE 3510-07-P